DEPARTMENT OF COMMERCE

National Oceanic and Atmospheric Administration

[I.D. 042004A]

Endangered and Threatened Species; Take of Anadromous Fish

AGENCY: National Marine Fisheries Service (NMFS), National Oceanic and Atmospheric Administration (NOAA), Commerce.

ACTION: Applications for five scientific research permits (1476, 1477, 1478, 1479, 1480).

SUMMARY: Notice is hereby given that NMFS has received five scientific research permit applications relating to Pacific salmon and steelhead. All of the proposed research is intended to increase knowledge of species listed under the Endangered Species Act (ESA) and to help guide management and conservation efforts.

DATES: Comments or requests for a public hearing on the applications must be received at the appropriate address or fax number (see ADDRESSES) no later than 5 p.m. Pacific daylight-saving time on May 26, 2004.

ADDRESSES: Written comments on the applications should be sent to Protected Resources Division, NMFS, F/NWO3, 525 NE Oregon Street, Suite 500, Portland, OR 97232-2737. Comments may also be sent via fax to 503-230-5435 or by e-mail to resapps1.nwr@NOAA.gov.

FOR FURTHER INFORMATION CONTACT: Garth Griffin, Portland, OR (ph.: 503-231-2005, Fax: 503-230-5435, e-mail: Garth.Griffin@noaa.gov). Permit application instructions are available at http://www.nwr.noaa.gov.

SUPPLEMENTARY INFORMATION:

Species Covered in This Notice

The following listed species and evolutionarily significant units (ESUs) are covered in this notice:

Chinook salmon (Oncorhynchus tshawytscha): endangered natural and artificially propagated upper Columbia River (UCR); threatened Snake River (SR) fall; threatened lower Columbia River (LCR).

Steelhead (O. mykiss): endangered UCR, threatened LCR.

Chum salmon (O. keta): threatened Columbia River (CR).

Authority

Scientific research permits are issued in accordance with Section 10(a)(1)(A) of the ESA (16 U.S.C. 1531 et. seq) and regulations governing listed fish and wildlife permits (50 CFR 222-226). NMFS issues permits/modifications based on findings that such permits and modifications: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Applications Received

Permit 1476

The University of Washington (UW) is requesting a 5-year research permit to annually capture, handle, and kill juvenile endangered UCR chinook salmon and steelhead in the mainstem upper Columbia River, the Wenatchee River, Nason Creek, and the Chiwiwa Rearing Pond in Washington State. The purpose of the research is to look into the interactions between listed salmonids and avian predators in the Columbia River. The study would benefit the salmon and steelhead by helping managers learn more about where and how often the birds are killing listed juvenile outmigrants in the Columbia River an interaction that is thought to be a potentially significant source of mortality. Managers would then use that information to determine if predator control is needed or could be effective in helping recover the listed salmonids. The UW proposes to (a) collect live fish from hatchery releases, (b) collect already dead fish at juvenile bypass facilities, and (c) use beach seines, boat electrofishing, and minnow traps to capture other fish in the mainstem Columbia River. The fish captured in the mainstem would immediately be released. The fish collected from the hatchery releases would be intentionally killed to develop a collection of reference samples and to determine the amount of nutrients in their bodies.

Permit 1477

The Idaho Cooperative Fish and Wildlife Research Unit (ICFWRU) is requesting a 5-year research permit to annually capture, tag, and release adult threatened LCR chinook salmon and SR fall chinook salmon in the Columbia River estuary. The purpose of the research is to gain a better understanding of what habitat types the fish use as they prepare to re-enter the Columbia River for their upstream migration. The research will benefit the fish by helping managers understand more about this relatively unknown stage in the fishes' life cycle and thereby better manage the resources upon which they depend. It will also help managers understand more about what negative anthropogenic impacts are occurring in the estuary and, it is to be hoped, thereby mitigate their effects. The ICFWRU proposes to capture using hook-and-line angling equipment a small number of adult fish. These fish will be anesthetized, fitted with radio telemetry tags (and passive integrated transponder tags (PIT-tags) if the fish does not already have one), allowed to recover, and released. They will then be tracked with radio equipment to determine where they go in the estuary. The ICFWRU does not expect to kill any of the fish being captured.

Permit 1478

The U.S. Geological Survey (USGS) is requesting a 5-year research permit to annually handle juvenile threatened LCR chinook salmon, LCR steelhead, and CR chum salmon in selected streams in southwestern Washington. The purpose of the research is to assess the effects of land use on urban streams, and determine how they compare with other streams in the basin and with streams nationwide. The study could potentially benefit listed species by helping society manage streams affected by urban land use and possibly by focusing stream rehabilitation on areas used by salmon and steelhead. The USGS proposes to capture the fish (using backpack electrofishing), anesthetize them, measure them, allow to them recover, and release them. The USGS does not intend to kill any of the fish being captured, but a small percentage may die as an unintended result of the research activities.

Permit 1479

The USGS is requesting a 5-year research permit to annually handle juvenile threatened LCR chinook salmon and adult and juvenile threatened LCR steelhead in selected streams in southwestern Washington. The purpose of the research is to investigate the efficacy of nutrient enhancement in increasing juvenile fish growth and condition and thereby determining how effective it can be with respect to restoring juvenile salmonid production in watersheds identified as nutrient deficient. The study will benefit listed species by (a) helping managers determine the feasibility of implementing nutrient enhancement as a salmon habitat restoration technique; (b) enhancing juvenile fish growth and condition and thereby increasing over-winter survival, smolt outmigration, and adult returns; and (c) ultimately helping restore salmon populations in the Pacific Northwest. The USGS proposes to capture juvenile fish (using backpack electrofishing), anesthetize them, measure and weigh them, mark them with visual implants (VI) or VI mark and tag them with PIT-tags, allow to them recover, and release them. The USGS does not intend to capture adult fish but some may be in the areas being fished and will be avoided as much as possible. The USGS does not intend to kill any of the fish being captured, but a small percentage of the juvenile fish may die as an unintended result of the research activities. The USGS does not expect to kill any of the adult fish being captured.

Permit 1480

The USGS is requesting a 5-year research permit to annually take adult and juvenile endangered UCR chinook and steelhead in three tributaries to the Methow River in Washington State. The purpose of the research is to monitor the contribution these streams make to chinook and steelhead production in the Methow subbasin both before and after human-made passage barriers in the streams have been removed. The research will benefit the fish by generating information on the effectiveness of such restoration actions in the area, and that information, in turn, will be used to guide other such efforts throughout the region. The USGS proposes to capture the fish-using weirs/traps and backpack electrofishing equipment anesthetize them, PIT-tag them (if they are large enough), allow them to recover, and release them. Several instream PIT-tag interrogation sites will be put into place to monitor the fish in the tributaries. In addition, tissue samples will be taken from some of the fish. The USGS does not intend to kill any of the fish being captured, but a small percentage may die as an unintended result of the research activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 20, 2004.
Ann Garrett,
Acting Chief, Endangered Species Division, Office of Protected Resources, National Marine Fisheries Service.

[FR Doc. 04-9437 Filed 4-23-04; 8:45 am]

BILLING CODE 3510-22-S